DEPARTMENT OF THE INTERIOR

Bureau of Land Management

[LLORM040 L17110000.DU0000.241A; HAG11-0336]

Notice of Intent To Prepare an Amendment to the Cascade-Siskiyou National Monument Resource Management Plan, Oregon, and Associated Environmental Assessment

AGENCY: Bureau of Land Management, Interior.

ACTION: Notice of intent.

SUMMARY: In compliance with the National Environmental Policy Act of 1969, as amended (NEPA), and the Federal Land Policy and Management Act of 1976, as amended (FLPMA), the Bureau of Land Management (BLM) Medford District Office, Ashland Resource Area, Medford, Oregon, intends to prepare an Environmental Assessment (EA) which will amend the 2008 Cascade-Siskiyou National Monument Resource Management Plan (CSNM RMP), and by this notice is announcing the beginning of the scoping process to solicit public comments and identify issues.

DATES: This notice initiates the public scoping process for the RMP Amendment with associated EA. Comments on issues may be submitted in writing until November 30, 2011. The date(s) and location(s) of any scoping meeting(s) will be announced at least 15 days in advance through the local news media, mailings to interested individuals, and on the BLM Medford Web site at: http://www.blm.gov/or/districts/medford/index.php. In order to be included in the EA, all comments must be received prior to the close of the 30-day scoping period or 15 days after the last public meeting, whichever is later. The BLM will provide additional opportunities for public participation upon publication of the EA.

ADDRESSES: You may submit comments on issues and planning criteria related to the CSNM RMP Amendment and associated EA by any of the following methods:

• Email: kminor@blm.gov.

• Fax: (541) 618-2400, Attention: Kathy Minor.

• Mail or hand delivery: Bureau of Land Management, Medford District Office, 3040 Biddle Road, Medford, Oregon 97504, Attention: Kathy Minor.

Documents pertinent to this proposal may be examined at the Medford District Office. All comments must contain the name and address of the submitter, regardless of delivery method, in order to be considered.

FOR FURTHER INFORMATION CONTACT: And/or to have your name added to our mailing list, contact Kathy Minor, CSNM Planner, telephone (541) 618-2245; address Medford District Office, 3040 Biddle Road, Medford, Oregon 97504; email kminor@blm.gov. Persons who use a telecommunications device for the deaf (TDD) may call the Federal Information Relay Service (FIRS) at 1-(800) 877-8339 to contact the above individual during normal business hours. This service is available 24 hours a day, 7 days a week, to leave a message or question with the above individual. You will receive a reply during normal business hours.

SUPPLEMENTARY INFORMATION: This document provides notice that the BLM Medford District Office, Ashland Resource Area, Medford, Oregon, intends to prepare an RMP amendment with an associated EA for the Cascade-Siskiyou National Monument, announces the beginning of the scoping process, and seeks public input on issues and planning criteria. The planning area is located in Jackson County, Oregon and encompasses approximately 55,930 acres of public lands. The purpose of the public scoping process is to determine relevant issues that will influence the scope of the environmental analysis, including alternatives, and guide the planning process.

This RMP amendment and associated EA will modify land tenure adjustment decisions in the CSNM RMP to allow for land exchanges that “furthers the protective purposes of the monument,” where the public land involved is located within the CSNM. Currently, the CSNM RMP allows for exchanges only where the public land involved is located outside the CSNM. This amendment would be consistent with the Presidential Proclamation 7318, dated June 9, 2000, which states, “All Federal lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument [emphasis added].”

The purpose of the public scoping process is to determine relevant issues that will influence the scope of the environmental analysis, including alternatives, and guide the plan amendment process. The Medford BLM seeks public input on issues and planning criteria. Federal, State, and local agencies, along with other stakeholders that may be interested or affected by the BLM's decision on this project are invited to participate in the scoping process and, if eligible, may request or be requested by the BLM to participate as a cooperating agency. BLM personnel identified one preliminary planning issue for the planning area. The preliminary planning issue is that the CSNM RMP is inconsistent with Presidential Proclamation 7318, dated June 9, 2000. The Proclamation provides for exchanges that further the protective purposes of the monument. The CSNM RMP precluded exchanges where the Federal land is located within the monument, thus making it inconsistent with the Proclamation. Preliminary planning criteria include:

1. The plan amendment will be consistent with Presidential Proclamation 7318;

2. Lands addressed in the RMP will be public lands (including split estate lands) managed by the BLM. There will be no decisions in the RMP for lands not managed by the BLM;

3. The BLM will complete the plan in compliance with FLPMA (43 U.S.C. 1701 et seq.), NEPA, and other applicable laws and regulations;

4. Where existing planning decisions are still valid, those decisions may remain unchanged and be incorporated into the new RMP amendment;

5. The plan amendment will recognize valid existing rights;

6. The BLM will use a collaborative and multi-jurisdictional approach, when practical, to determine the desired future condition of public lands; and

7. The BLM will strive to make land use plan decisions compatible with existing plans and policies of adjacent local, State, Federal, and tribal agencies, and consistent with other applicable laws and regulations governing the administration of public land.

You may submit comments on issues and planning criteria in writing to the BLM at any public scoping meeting, or you may submit them to the BLM using one of the methods listed in the ADDRESSES section above. To be most helpful, you should submit comments by the close of the 30-day scoping period. Before including your address, phone number, email address, or other personal identifying information in your comment, you should be aware that your entire comment—including your personal identifying information—may be made publicly available at any time. While you can ask us in your comment to withhold your personal identifying information from public review, we cannot guarantee that we will be able to do so.

The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Lands and realty, botany, wildlife and fisheries, hydrology, soils, archeology, recreation, fire and fuels management, and Geographic Information Systems.

Authority: 40 CFR 1501.7, 43 CFR 1610.2, 40 CFR 1508.22.

Dayne Barron,
BLM Medford District Manager.

[FR Doc. 2011-28064 Filed 10-28-11; 8:45 am]

BILLING CODE 4310-33-P